DEPARTMENT OF THE INTERIOR

Bureau of Reclamation

Quarterly Status Report of Water Service, Repayment, and Other Water-Related Contract Negotiations

AGENCY: Bureau of Reclamation, Interior.

ACTION: Notice.

SUMMARY: Notice is hereby given of contractual actions that have been proposed to the Bureau of Reclamation (Reclamation) and are new, modified, discontinued, or completed since the last publication of this notice on April 29, 2003. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Sandra L. Simons, Manager, Water Contracts and Repayment Office, Bureau of Reclamation, PO Box 25007, Denver, Colorado 80225-0007; telephone 303-445-2902.

SUPPLEMENTARY INFORMATION: Consistent with section 9(f) of the Reclamation Project Act of 1939 and 43 CFR 426.20 of the rules and regulations published in 52 FR 11954, April 13, 1987, Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period is necessary.

Factors considered in making such a determination shall include, but are not limited to (i) The significance of the modification, and (ii) the degree of public interest which has been expressed over the course of the negotiations. At a minimum, the regional director shall furnish revised contracts to all parties who requested the contract in response to the initial public notice.

The February 28, 2003, notice should be used as a reference point to identify changes. The numbering system in this notice corresponds with the numbering system in the February 28, 2003, notice.

Definitions of Abbreviations Used in This Document

BCP Boulder Canyon Project

Reclamation Bureau of Reclamation

CAP Central Arizona Project

CVP Central Valley Project

CRSP Colorado River Storage Project

FR Federal Register

IDD Irrigation and Drainage District

ID Irrigation District

M&I Municipal and Industrial

O&M Operation and Maintenance

P-SMBP Pick-Sloan Missouri Basin Program

PPR Present Perfected Right

SOD Safety of Dams

WD Water District

Pacific Northwest Region:

Bureau of Reclamation, 1150 North Curtis Road, Suite 100, Boise, Idaho 83706-1234, telephone 208-378-5223.

New contract action:

21. Tualatin Valley ID, Clean Water Services, and the Cities of Hillsboro, Forest Grove, Beaverton, and Lake Oswego; Tualatin Project; Oregon: Repayment agreements for repayment of reimbursable cost of SOD modifications to Scoggins Dam.

Modified contract action:

17. Hermiston and West Extension IDs, Umatilla Project, Oregon: Amendatory repayment contracts for long-term boundary expansions to include lands outside of federally recognized district boundaries.

Completed contract actions:

17. Stanfield ID, Umatilla Project, Oregon: Amendatory repayment contracts for long-term boundary expansions to include lands outside of federally recognized district boundaries. Contract was executed April 30, 2003.

18. Emmett ID and 12 individual contract spaceholders, Boise Project, Payette Division, Idaho: Repayment agreements or contracts for reimbursable costs of SOD modifications to Deadwood Dam. Repayment contract with District and letters of agreement with individual contractors were executed June 2003.

Mid-Pacific Region:

Bureau of Reclamation, 2800 Cottage Way, Sacramento, California 95825-1898, telephone 916-978-5250.

New contract actions:

41. Orland Unit Water User's Association, Orland Project, California: Repayment contract for the SOD costs assigned to the irrigation purpose of Stony Gorge Dam.

42. Delta Lands Reclamation District No. 770, CVP, California: Long-term operations contract for conveying nonproject flood flows.

43. Banta-Carbona ID, CVP, California: Proposed partial assignment of up to 5,000 acre-feet of Banta-Carbona ID's CVP irrigation water to City of Tracy for M&I use.

44. The West Side ID, CVP, California: Proposed partial assignment of up to 5,000 acre-feet of the West Side ID's CVP irrigation water to City of Tracy for M&I use.

Completed contract actions:

10. Mercy Springs WD, CVP, California: Partial assignment of about 7,000 acre-feet of Mercy Springs WD's water service contract to Westlands WD for agricultural use. Contract for the partial assignment executed March 1, 2003.

23. Lower Tule River, Porterville, and Vandalia IDs, and Pioneer Water Company, Success Project, California: Repayment contract for the SOD costs assigned to the irrigation purpose of Success Dam. Repayment contract was executed March 12, 2003.

35. Cachuma Operation and Maintenance Board, Cachuma Project, California: Long-term contract to transfer responsibility for O&M and O&M funding of certain Cachuma Project facilities to the member units. Long-term contract was executed March 1, 2003.

Lower Colorado Region:

Bureau of Reclamation, PO Box 61470 (Nevada Highway and Park Street), Boulder City, Nevada 89006-1470, telephone 702-293-8536.

New contract actions:

52. Fishers Landing, LLC, BCP, Arizona: Water delivery contract for 53 acre-feet of Colorado River water.

53. City of Tucson, CAP, Arizona: Partial transfer of 4,454 acre-feet of M&I allocation from the City of Tucson to Wells Fargo Bank of Arizona, Trustee, for the town of Oro Valley.

Modified contract action:

31. Jessen Family Limited Partnership, BCP, Arizona: Contract for the delivery of 1,080 acre-feet of Colorado River water for agricultural purposes.

Discontinued contract action:

6. Curtis Family Trust et al., BCP, Arizona: Contract for 2,100 acre-feet per year of Colorado River water for irrigation.

Completed contract actions:

32. Robson Communities, Southern Arizona Water Rights Settlement Act, Arizona: United States contract with Robson Communities for the sale of 3,500 acre-feet of long-term water storage credits accrued in the Tucson area during calendar year 2000-2001.

37. Citizens Communications Company (Agua Fria Division), CAP, Arizona: Assignment of M&I water service subcontract rights and responsibilities to Arizona American Water Company (Sun City).

40. Pasquinelli, Gary J. and Barbara J., BCP, Arizona: Contract for the delivery of 486 acre-feet of Colorado River water for agricultural purposes.

41. Citizens Communications Company (Sun City Division), CAP, Arizona: Assignment of M&I water service subcontract rights and responsibilities to Arizona American Water Company (Sun City Division).

42. Citizens Communications Company (Sun City West Division), CAP, Arizona: Assignment of M&I water service subcontract rights and responsibilities to Arizona American Water Company (Sun City West Division).

Upper Colorado Region

Bureau of Reclamation, 125 South State Street, Room 6107, Salt Lake City, Utah 84138-1102, telephone 801-524-4419.

New contract actions:

21. Project Operations Committee, Animas-La Plata Project, Colorado and New Mexico: Agreement among the United States, the Southern Ute Indian Tribe, Ute Mountain Ute Tribe, Navajo Nation, San Juan Water Commission, Animas-La Plata Water Conservancy District, State of Colorado, and La Plata Conservancy District of New Mexico to coordinate and oversee the necessary operation, maintenance, and replacement activities of the project works.

22. Southern Ute Indian Tribe, Colorado, Animas-La Plata Project, Colorado and New Mexico: Water delivery contract for an average annual depletion not to exceed 16,525 acre-feet of M&I water; contract terms to be consistent with the Colorado Ute Settlement Act Amendments of 2000 (Title III of Pub. L. 106-554).

23. Ute Mountain Ute Tribe, Colorado, Animas-La Plata Project, Colorado and New Mexico: Water delivery contract for an average annual depletion not to exceed 16,525 acre-feet of M&I water; contract terms to be consistent with the Colorado Ute Settlement Act Amendments of 2000 (Title III of Pub. L. 106-554).

24. Navajo Nation, Animas-La Plata Project, Colorado and New Mexico: Water delivery contract for an average annual depletion not to exceed 2,340 acre-feet of M&I water; contract terms to be consistent with the Colorado Ute Settlement Act Amendments of 2000 (Title III of Pub. L. 106-554).

25. Elk Meadows Homeowners Association, Aspinall Storage Unit, CRSP, Colorado: Elk Meadows has requested a 40-year water service contract for 3 acre-feet of water out of Blue Mesa Reservoir to support their plan of augmentation, Case No. 03WC20, District Court, Water Division 4.

26. Paul Hudgeons, Aspinall Storage Unit, CRSP, Colorado: Mr. Hudgeons has requested a 40-year water service contract for 1 acre-foot of water out of Blue Mesa Reservoir to support his plan of augmentation, Case No. 02WC283, District Court, Water Division 4.

Completed contract actions:

1.(h) Lamar Northworthy, Aspinall Storage Unit, CRSP, Colorado: Mr. Northworthy has requested a 40-year water service contract for 2 acre-feet of water out of Blue Mesa Reservoir to support his plan of augmentation, Case No. 02WC240, District Court, Water Division 4. Contract was executed May 30, 2003.

(i) Heatherwood Villas Condominium Association, Aspinall Storage Unit, CRSP, Colorado: The Association has requested a 40-year water service contract for 2 acre-feet of water out of Blue Mesa Reservoir to support its plan of augmentation. The Association is in the process of filling a plan of augmentation with the State of Colorado, Water Division 4. Contract was executed April 21, 2003.

(j) Riverland Lot Owners Association, Aspinall Storage Unit, CRSP, Colorado: The Association has requested a 40-year water service contract for 14 acre-feet of water out of Blue Mesa Reservoir to support its plan of augmentation. The Association is in the process of filling a plan of augmentation with the State of Colorado, Water Division 4. Contract was executed May 30, 2003.

5. Provo River Water Users Association, Provo River Project, Utah: Contract to provide for repayment of reimbursable portion of construction costs of SOD modifications to Deer Creek Dam. Contract was executed April 25, 2003.

Great Plains Region

Bureau of Reclamation, PO Box 36900, Federal Building, 316 North 26th Street, Billings, Montana 59107-6900, telephone 406-247-7790.

New contract actions:

46. Town of Deaver, Shoshone Project, Wyoming: Negotiate a long-term contract for up to 475 acre-feet of irrigation water from the two drains below Deaver Reservoir.

47. Tom Green County Water Control and Improvement District No. 1, San Angelo Project, Texas: The District has requested deferment of its 2003 repayment obligation. A basis of negotiation has been prepared to amend contract No. 14-06-500-369. A public notice has been published in the San Angelo Times.

Modified contract actions:

19. Savage ID, P-SMBP, Montana: The District is currently seeking title transfer. The contract is subject to renewal pending the outcome of the title transfer process. The final version of a 5-year interim contract has been sent to the District for signature. The District has requested information concerning renewal of the long-term contract.

24. Belle Fourche ID, Belle Fourche Project, South Dakota: Belle Fourche ID has requested a $25,000 reduction in construction repayment. The contract amendment has been sent to the District for signature.

40. Clayton and Debbie Fulfer (Individual), P-SMBP, Boysen Unit, Wyoming: Renewal of long-term contract for up to 15 acre-feet of supplemental irrigation water to service 5.72 acres.

Discontinued contract action:

44. Frenchman-Cambridge ID, Frenchman Unit, P-SMBP, Nebraska: Proposed contract amendment for deferment of annual payment due to severe drought.

Completed contract actions:

27. Milk River Project, Montana: City of Harlem water service contract expired in December 2002. Initiating negotiations for renewal of a water service contract for an annual supply of raw water for domestic use from the Milk River not to exceed 500 acre-feet. Contract was executed May 22, 2003.

28. Lower Marias Unit, P-SMBP, Montana: Town of Chester water service contract expired in December 2002. Initiating negotiations for renewal of a long-term water service contract for an annual supply of raw water for domestic use from Tiber Reservoir not to exceed 500 acre-feet. Contract was executed May 27, 2003.

37. Chippewa Cree Tribe (Tribe), Rocky Boy's Indian Reservation, Montana: Pursuant to Title II, section 201(a)(2), of the Rocky Boy's Indian Reserved Water Rights Settlement and Water Supply Enhancement Act of 1999 (Pub. L. 106-163), Reclamation is negotiating to allocate 10,000 acre-feet per year of stored water in Lake Elwell. Contract was executed March 6, 2003.

41. Midvale ID, P-SMBP, Riverton Unit, Wyoming: Negotiations of a SOD Program contract for modification of Bull Lake Dam. An agreement was executed February 13, 2003.

Dated: June 23, 2003.
Wayne O. Deason,
Acting Director, Program and Policy Services.

[FR Doc. 03-18799 Filed 7-23-03; 8:45 am]

BILLING CODE 4310-MN-P